DEPARTMENT OF HEALTH AND HUMAN SERVICES

Health IT Policy Committee Advisory Meeting; Notice of Meeting

AGENCY: Office of the National Coordinator for Health Information Technology, HHS.

ACTION: Notice of meeting.

This notice announces updated dates for meetings of a public advisory committee of the Office of the National Coordinator for Health Information Technology (ONC). These meeting will be open to the public.

Name of Committee: Health IT Policy Committee.

General Function of the Committee: To provide recommendations to the National Coordinator on a policy framework for the development and adoption of a nationwide health information technology infrastructure that permits the electronic exchange and use of health information as is consistent with the Federal Health IT Strategic Plan and that includes recommendations on the areas in which standards, implementation specifications, and certification criteria are needed.

2016 Meeting Dates and Times

• May 17, 2016, from 9:00 a.m. to 3:00 p.m./Eastern Time

○ This will be an in-person meeting at the Omni Shoreham Hotel, 2500 Calvert Street NW., Washington, DC 20008

• June 8, 2016, from 10:00 a.m. to 1:00 p.m./Eastern Time (replacing the June 7, 2016 meeting)

○ This will be a virtual meeting

• June 23, 2016, from 9:00 a.m. to 3:00 p.m./Eastern Time

○ This will be an in-person meeting at the Hyatt Regency Crystal City, 2799 Jefferson Davis Highway, Arlington, VA 22202

• July 27, 2016 from 9:30 a.m. to 1:00 p.m./Eastern Time (replacing the formerly announced July 12 and August 9 meetings)

○ This will be a virtual meeting

For meeting locations, web conference information, and the most up-to-date information, please visit the calendar on the ONC Web site, http://www.healthit.gov/FACAS/calendar

Contact Person: Michelle Consolazio, email: michelle.consolazio@hhs.gov. Please email Michelle Consolazio for the most current information about meetings. A notice in the Federal Register about last minute modifications that impact a previously announced advisory committee meeting cannot always be published quickly enough to provide timely notice.

Agenda: The committee will hear reports from its workgroups/task forces and updates from ONC and other federal agencies. ONC intends to make background material available to the public no later than 24 hours prior to the meeting start time. If ONC is unable to post the background material on its Web site prior to the meeting, it will be made publicly available at the location of the advisory committee meeting, and the background material will be posted on ONC's Web site after the meeting, at http://www.healthit.gov/FACAS/health-it-policy-committee.

Procedure: Interested persons may present data, information, or views, orally or in writing, on issues pending before the Committee. Written submissions may be made to the contact person prior to the meeting date. Oral comments from the public will be scheduled prior to the lunch break and at the conclusion of each meeting. Time allotted for each presentation will be limited to three minutes. If the number of speakers requesting to comment is greater than can be reasonably accommodated during the scheduled open public session, ONC will take written comments after the meeting.

Persons attending ONC's advisory committee meetings are advised that the agency is not responsible for providing wireless access or access to electrical outlets.

ONC welcomes the attendance of the public at its advisory committee meetings. Seating is limited at the location, and ONC will make every effort to accommodate persons with physical disabilities or special needs. If you require special accommodations due to a disability, please contact Michelle Consolazio at least seven (7) days in advance of the meeting.

ONC is committed to the orderly conduct of its advisory committee meetings. Please visit our Web site at http://healthit.hhs.gov for procedures on public conduct during advisory committee meetings.

Notice of this meeting is given under the Federal Advisory Committee Act (Pub. L. 92-463, 5 U.S.C., App. 2).

Dated: June 1, 2016.
Michelle Consolazio,
FACA Program Director, Office of Policy, Office of the National Coordinator for Health Information Technology.

[FR Doc. 2016-13998 Filed 6-13-16; 8:45 am]

BILLING CODE 4150-45-P